DEPARTMENT OF HOMELAND SECURITY

Coast Guard

[Docket No. USCG-2024-0743]

National Navigation Safety Advisory Committee; Vacancies

AGENCY: Coast Guard, Department of Homeland Security.

ACTION: Notice of application deadline extension.

SUMMARY: The U.S. Coast Guard is accepting applications to fill nineteen (19) vacancies on the National Navigation Safety Advisory Committee (Committee). This Committee advises the Secretary of Homeland Security via the Commandant of the U.S. Coast Guard on matters relating to maritime collisions, rammings, and groundings; Inland Rules of the Road; International Rules of the Road; navigation regulations and equipment; routing measures; marine information; and aids to navigation systems. Individuals currently holding these appointments will need to re-apply if they wish to continue as Committee members.

DATES: The application deadline for the notice published in the Federal Register on Thursday, August 29, 2024, at 89 FR 70196, is extended. Applications are due on or before October 31, 2024.

FOR FURTHER INFORMATION CONTACT: Ms. Danielle Gibb, Alternate Designated Federal Officer of the National Navigation Safety Advisory Committee; telephone 206-831-0261 or email at smb-basencr-cgnav-nnavsac@uscg.mil.

SUPPLEMENTARY INFORMATION: The National Navigation Safety Advisory Committee is a Federal advisory committee. The Committee was authorized on December 4, 2018, by section 601 of the Frank LoBiondo Coast Guard Authorization Act of 2018 (Pub. L. No 115-282, 132 Stat 4192), and is codified in 46 U.S.C. 15107. The Committee operates under the provisions of the Federal Advisory Committee Act, and 46 U.S.C. 15109.

Notice of application deadline extension is given under the Federal Advisory Committee Act (5 U.S.C. ch. 10).

Dated: September 26, 2024.
Michael D. Emerson,
Director of Marine Transportation Systems.

[FR Doc. 2024-22553 Filed 10-1-24; 8:45 am]

BILLING CODE 9110-04-P